DEPARTMENT OF AGRICULTURE

Office of the Secretary

Notice of Appointment of Members to the National Agricultural Research, Extension, Education, and Economics Advisory Board

AGENCY: Research, Education, and Economics, USDA.

ACTION: Appointment of members.

SUMMARY: In accordance with the Federal Advisory Committee Act, 5 U.S.C. App 2, the United States Department of Agriculture announces the appointments made by the Secretary of Agriculture to the 12 vacancies on the National Agricultural Research, Extension, Education, and Economics Advisory Board. The appointees, by vacancy category, are as follows: Category A. “National Farm Organizations,” Alan Foutz, Owner/Operator, Foutz Farms, Akron CO; Category C. “Food Animal Commodity Producers,” Carol Keiser, President, C-BAR Cattle Co. Inc., and President, C-ARC Enterprises, Inc., Champaign, IL; Category E. “National Animal Commodity Organizations,” Alois Kertz, Principal, ANDHILL, LLC, and Managing Partner, KKC Tech, LLC, St. Louis, MO; Category F. “National Crop Commodity Organizations,” Gary Davis, Farmer/Veterinarian, Gar-Mar Farms and Greenbriar Veterinary Services, Inc., Delaware, OH; Category K. “National Human Health Associations,” John Cunningham, Deputy Provost and Professor of Nutrition, University of Massachusetts, Amherst, MA; Category P. “Hispanic Serving Institutions,” Ricardo Chavez Rel, Special Assistant to the Secretary of Agriculture, New Mexico State University, Department of Agriculture, Las Cruces, NM; Category Q. “American Colleges of Veterinary Medicine,” Glen Hoffsis, Dean, College of Veterinary Medicine, Ohio State University, Columbus, OH; Category R. “Non-Land Grant College or University with Historic Commitment to Research in the Food and Agricultural Sciences,” David Wehner, Dean, College of Agriculture, California Polytechnic State University, San Luis Obispo, CA; Category T. “Transportation of Food and Agricultural Products (foreign and domestic),” James Lugg, President, TransFRESH Corporation, Salinas, CA; Category V. “Food and Fiber Processors,” Gilbert Leveille, Vice President, System Design, Cargill, Inc., and President, Charles Valentine Riley Memorial Foundation, Wayzata, MN (reappointment); Category AA. “International Development/Private Sector Organizations,” Shirley Dunlap Bowser, Self-Employed Farmer/Chair of Kellogg Foundation, Williamsport, OH (reappointment); and Category DD. “National Social Science Associations,” Cornelia Flora, Director, North Central Regional Center for Rural Development, Iowa State University, Ames, IA.

DATES: Appointments by the Secretary of Agriculture are for a three-year term, effective October 1, 2003 until September 30, 2006.

ADDRESSES: National Agricultural Research, Extension, Education, and Economics Advisory Board; Research, Education, and Economics Advisory Board Office, Room 344A, Jamie L. Whitten Building, U.S. Department of Agriculture; STOP 2255; 1400 Independence Avenue, SW., Washington, DC 20250-2255

FOR FURTHER INFORMATION CONTACT: Deborah Hanfman, Executive Director, National Agricultural Research, Extension, Education, and Economics Advisory Board; telephone: (202) 720-3684; fax: (202) 720-6199 or e-mail: dhanfman@csrees.usda.gov

SUPPLEMENTARY INFORMATION: Section 802 of the Federal Agricultural Improvement and Reform Act of 1996 authorized the creation of the National Agricultural Research, Extension, Education, Economics Advisory Board. The Board is composed of 31 members, each representing a specific category related to agriculture. The Board was first appointed in September 1996 and at the time one-third of the original members were appointed for a one, two, and three-year term, respectively. Due to the staggered appointments, the terms for 12 of the 31 members expired September 30, 2003. Each member is appointed by the Secretary of Agriculture to a specific category on the Board, including: farming or ranching, food production and processing, forestry research, crop and animal science, land-grant institutions, non-land grant college or university with a historic commitment to research in the food and agricultural sciences, food retailing and marketing, rural economic development, and natural resource and consumer interest groups, among many others.

Done at Washington, DC this 29th day of January 2004.
Joseph J. Jen,
Under Secretary, Research, Education, and Economics.

[FR Doc. 04-2763 Filed 2-9-04; 8:45 am]

BILLING CODE 3410-22-P